DEPARTMENT OF LABOR

Employment and Training Administration

[TA-W-60,460]

Roseburg Forest Products, Coquille, OR; Notice of Termination of Investigation

Pursuant to Section 221 of the Trade Act of 1974, as amended, an investigation was initiated on November 20, 2006 in response to a petition filed jointly by the Carpenters and Joiners of America Local 2784 and a company official on behalf of workers of Roseburg Forest Products, Coquille, Oregon.

The petitioners have requested that the petition be withdrawn. Consequently, the investigation has been terminated.

Dated: December 5, 2006.
Linda G. Poole,
Certifying Officer, Division of Trade Adjustment Assistance.

[FR Doc. E6-21108 Filed 12-11-06; 8:45 am]

BILLING CODE 4510-30-P